DEPARTMENT OF COMMERCE

International Trade Administration

[C-570-011]

Certain Crystalline Silicon Photovoltaic Products From the People's Republic of China: Notice of Court Decision Not in Harmony With the Final Results of the Countervailing Duty Administrative Review; Notice of Amended Final Results

AGENCY: Enforcement and Compliance, International Trade Administration, Department of Commerce.

SUMMARY: On March 21, 2024, the U.S. Court of International Trade (the Court) issued its final judgment in Trina Solar (Changzhou) Science & Technology Co., Ltd., et al. v. United States, Court No. 23-00219 (CIT March 21, 2024), sustaining the U.S. Department of Commerce's (Commerce) final remand results pertaining to the countervailing duty administrative review on certain crystalline silicon photovoltaic products (solar products) from the People's Republic of China (China), covering the period of review (POR) January 1, 2021, through December 31, 2021. Commerce is notifying the public that the Court's final judgment is not in harmony with the final results of the administrative review, and that Commerce is amending its final results.

DATES: Applicable March 31, 2024.

FOR FURTHER INFORMATION CONTACT: Gene H. Calvert, AD/CVD Operations, Office VII, Enforcement and Compliance, International Trade Administration, U.S. Department of Commerce, 1401 Constitution Avenue NW, Washington, DC 20230; telephone: (202) 482-3586.

SUPPLEMENTARY INFORMATION:

Background

On September 13, 2023, Commerce published its final results of the 2021 administrative review of solar products from China.¹ Commerce reached an affirmative determination for Trina Solar (Changzhou) Science & Technology Co., Ltd. and its cross-owned affiliates (collectively, Trina Solar). In the Final Results, Commerce exclusively relied on freight rates published by The Descartes Systems Group Inc. (Descartes) when determining ocean freight rates for calculating the subsidy rates for several programs pursuant to which the Government of China provided goods for less than adequate remuneration (LTAR).² Trina Solar filed a complaint concerning this issue.

¹ See Certain Crystalline Silicon Photovoltaic Products from the People's Republic of China: Final Results of Countervailing Duty Administrative Review; 2021, 88 FR 62770 (Final Results), and accompanying Issues and Decision Memorandum (IDM).

² Id. at Comment 5.

Subsequently, and considering the Court's holding in Risen Energy I and Risen Energy II,³ Commerce requested that the issue be remanded for further consideration. On December 12, 2023, the Court granted Commerce's motion for voluntary remand with additional guidance.⁴ Specifically, the Court instructed Commerce to consider its rulings in Risen Energy I and Risen Energy II and to use a multiple route database in keeping with the statutory preference for relying on a broadly based ocean freight rate, in the absence of “the ability to concretely explain a strong reason for a single rate source.” ⁵ Upon reconsideration of this issue, Commerce determined not to rely on the Descartes database for the base rates for ocean freight in constructing world market benchmarks for LTAR programs under 19 CFR 351.511(a)(2)(ii). Instead, Commerce relied on ocean freight rates published by Xeneta AS (Xeneta) exclusively for the base ocean freight rates and then made certain adjustments to the Xeneta data to account for any missing ocean freight surcharges, relying on the Descartes data.⁶ On February 22, 2024, Commerce issued its final results of redetermination calculating an estimated countervailable subsidy rate of 9.02 percent ad valorem for Trina Solar,⁷ and on March 21, 2024, the Court sustained Commerce's Final Redetermination.⁸

³ See Risen Energy Co., v. United States, 570 F. Supp. 3d 1369, 1372 (CIT 2022) (Risen Energy I); see also Risen Energy Co. v. United States, Slip Op. 23-48 (CIT April 11, 2023) (Risen Energy II).

⁴ See Trina Solar (Changzhou) Science & Technology Co., Ltd. v. United States, Court No. 23-00219, Slip Op. No. 23-174 (CIT December 12, 2023).

⁵ Id.

⁶ See Trina Solar (Changzhou) Science & Technology Co., Ltd. v. United States, Court No. 23-00219, “Final Results of Redetermination Pursuant to Court Order,” dated February 22, 2024 (Final Redetermination).

⁷ Id.

⁸ See Trina Solar (Changzhou) Science & Technology Co., Ltd., et al., v. United States, Court No. 23-00219 (CIT March 21, 2024).

Timken Notice

In its decision in Timken,⁹ as clarified by Diamond Sawblades,¹⁰ the U.S. Court of Appeals for the Federal Circuit held that, pursuant to section 516A(c) and (e) of the Tariff Act of 1930, as amended (the Act), Commerce must publish a notice of a court decision that is not “in harmony” with a Commerce determination and must suspend liquidation of entries pending a “conclusive” court decision. The Court's March 21, 2024, judgment constitutes a final decision of the Court that is not in harmony with Commerce's Final Results. This notice is published in fulfillment of the publication requirements of Timken.

⁹ See Timken Co., v. United States, 893 F.2d 337 (Fed. Cir. 1990) (Timken).

¹⁰ See Diamond Sawblades Mfrs. Coal. v. United States, 626 F.3d 1374 (Fed. Cir. 2010) (Diamond Sawblades).

Amended Final Results

Because there is now a final court judgment, Commerce is amending its Final Results with respect to Trina Solar's countervailable subsidy rate for the period January 1, 2021, through December 31, 2021, as follows:

Producer/exporter | Subsidy rate (percent ad valorem)
Trina Solar (Changzhou) Science & Technology Co., Ltd.¹¹ | 9.02

Cash Deposit Requirements

¹¹ Commerce found Trina Solar (Changzhou) Science & Technology Co., Ltd. to be cross-owned, within the meaning of 19 CFR 351.525(b)(6)(vi), among and across the following companies: Yancheng Trina Solar Guoneng Science & Technology Co., Ltd.; Trina Solar (Su Qian) Technology Co., Ltd.; Trina Solar Yiwu Technology Co., Ltd.; Trina Solar Co., Ltd.; Trina Solar (Yancheng Dafeng) Co., Ltd.; Trina Solar Science & Technology (Yancheng) Co., Ltd.; Trina Solar (Suqian) Optoelectronics Co., Ltd.; Trina Solar (Changzhou) Optoelectronic Device Co., Ltd.; Changzhou Trina Solar Yabang Energy Co., Ltd.; Hubei Trina Solar Energy Co., Ltd.; Turpan Trina Solar Energy Co., Ltd.; Trina Solar (Hefei) Science and Technology Co., Ltd.; Changzhou Hesai PV Ribbon Materials Co., Ltd.; Changzhou Hewei New Material Technology Co., Ltd.; Changzhou Trina Hezhong PV Co., Ltd.; and Changzhou Trina PV Ribbon Materials Co., Ltd. See Final Results.

Commerce intends to issue revised cash deposit instructions to U.S. Customs and Border Protection (CBP) for the entries indicated above. The revised cash deposit rate, indicated above, will be effective March 31, 2024.

Liquidation of Suspended Entries

Commerce intends to instruct CBP to assess countervailing duties on unliquidated entries of subject merchandise produced and/or exported by Trina Solar in accordance with 19 CFR 351.212(b). We will instruct CBP to assess countervailing duties on all appropriate entries covered by this administrative review where the ad valorem rate is not zero or de minimis. Where an ad valorem subsidy rate is zero or de minimis,¹² we will instruct CBP to liquidate the appropriate entries without regard to countervailing duties.

¹² See 19 CFR 351.106(c)(2).

Notification to Interested Parties

This notice is issued and published in accordance with sections 516A(c) and (e), and 777(i)(1) of the Act.

Dated: June 18, 2024.
Ryan Majerus,
Deputy Assistant Secretary for Policy and Negotiations, performing the non-exclusive functions and duties of the Assistant Secretary for Enforcement and Compliance.

[FR Doc. 2024-13841 Filed 6-24-24; 8:45 am]

BILLING CODE 3510-DS-P